DEPARTMENT OF ENERGY

Federal Energy Regulatory Commission

Combined Notice of Filings #1

Take notice that the Commission received the following electric corporate filings:

Docket Numbers: EC22-46-000.

Applicants: AltaGas Brush Energy, Inc., Clarion Energy LLC.

Description: Application for Authorization Under Section 203 of the Federal Power Act of AltaGas Brush Energy, Inc.

Filed Date: 3/9/22.

Accession Number: 20220309-5048.

Comment Date: 5 p.m. ET 3/30/22.

Take notice that the Commission received the following electric rate filings:

Docket Numbers: ER10-1962-020; ER11-3635-018; ER16-2297-017; ER16-2506-016; ER17-582-012; ER17-583-012; ER18-2182-013; ER21-183-004; ER21-1506-004; ER21-1519-003; ER21-1532-003; ER21-1682-003; ER21-2117-004; ER21-2118-004; ER21-2225-004; ER21-2293-005; ER21-2296-004; ER21-2641-003; ER21-2674-003; ER21-2699-005.

Applicants: Minco Wind Energy III, LLC, Borderlands Wind, LLC, Quinebaug Solar, LLC, Ensign Wind Energy, LLC, Fish Springs Ranch Solar, LLC, Irish Creek Wind, LLC, Dodge Flat Solar, LLC, Little Blue Wind Project, LLC, Elora Solar, LLC, Quitman II Solar, LLC, Cool Springs Solar, LLC, Shaw Creek Solar, LLC, Nutmeg Solar, LLC, Minco IV & V Interconnection, LLC, Whitney Point Solar, LLC, Westside Solar, LLC, Oliver Wind III, LLC, Osborn Wind Energy, LLC, Hatch Solar Energy Center I, LLC, High Winds, LLC.

Description: Notice of Change in Status of High Winds, LLC, et al.

Filed Date: 3/3/22.

Accession Number: 20220303-5264.

Comment Date: 5 p.m. ET 3/24/22.

Docket Numbers: ER12-2498-020; ER12-2499-020; ER20-2671-002; ER17-382-005; ER17-383-005; ER17-384-005; ER13-764-020; ER14-1927-008; ER18-1416-004; ER11-4055-010; ER12-1566-014; ER14-1548-013; ER16-1327-003; ER21-425-002; ER12-199-019; ER17-2141-003; ER17-2142-003; ER11-3987-015; ER16-1325-003; ER16-1326-003; ER18-855-004; ER14-1775-008; ER10-1252-015; ER18-2303-002; ER18-2305-002; ER18-2306-002; ER18-2308-002; ER18-2309-002; ER18-2310-002; ER18-2311-002; ER19-813-002; ER15-2653-002; ER21-848-002; ER10-1246-015.

Applicants: Consolidated Edison Energy, Inc., Battle Mountain SP, LLC, Campbell County Wind Farm, LLC, Broken Bow Wind II, LLC,SF Wind Enterprises, LLC, Rose Wind Holdings, LLC, Rose Creek Wind, LLC, K&K Wind Enterprises, LLC, Garwind, LLC, Bobilli BSS, LLC, Adams Wind Farm, LLC, Consolidated Edison Solutions, Inc., SEP II, LLC, Panoche Valley Solar, LLC, Mesquite Solar 3, LLC, Mesquite Solar 2, LLC, Mesquite Solar 1, LLC, Great Valley Solar 2, LLC, Great Valley Solar 1, LLC, Coram California Development, L.P., Copper Mountain Solar 5, LLC, Copper Mountain Solar 4, LLC, Copper Mountain Solar 3, LLC, Copper Mountain Solar 2, LLC, Copper Mountain Solar 1, LLC,CED Wistaria Solar, LLC,CED White River Solar 2, LLC,CED White River Solar, LLC, CED Ducor Solar 3, LLC, CED Ducor Solar 2, LLC, CED Ducor Solar 1, LLC, Water Strider Solar, LLC, Alpaugh North, LLC, Alpaugh 50, LLC.

Description: Notice of Non-Material Change in Status of Alpaugh 50, LLC, et al. under ER12-2498, et al.

Filed Date: 3/3/22.

Accession Number: 20220303-5258.

Comment Date: 5 p.m. ET 3/24/22.

Docket Numbers: ER17-2341-007; ER17-1671-003; ER18-713-005; ER17-2453-006; ER17-157-005; ER16-38-010; ER16-39-009; ER15-1218-012; ER15-2224-005; ER18-1775-004; ER17-1672-003; ER16-2501-006; ER16-2502-006; ER14-2666-005; ER20-2888-004; ER21-1350-001; ER21-630-001;

Applicants: CA Flats Solar 130, LLC, 325MK 8ME LLC, Citadel Solar, LLC, Townsite Solar, LLC, Avalon Solar Partners, LLC, Tropico, LLC, Nicolis, LLC, Gulf Coast Solar Center III, LLC, 64KT 8me LLC, Solar Star Colorado III, LLC, Solar Star California XIII, LLC, Kingbird Solar B, LLC, Kingbird Solar A, LLC, Moapa Southern Paiute Solar, LLC, Imperial Valley Solar 3, LLC, CA Flats Solar 150, LLC, Gulf Coast Solar Center II, LLC.

Description: Notice of Non-Material Change in Status of CA Flats Solar 130, LLC, et al.

Filed Date: 3/3/22.

Accession Number: 20220303-5262.

Comment Date: 5 p.m. ET 3/24/22.

Docket Numbers: ER21-1297-001; ER13-1562-009; ER20-1910-001; ER20-1911-001; ER20-1915-002; ER20-1916-002; ER12-1931-010; ER10-2504-011; ER12-610-011; ER13-338-009; ER19-592-004.

Applicants: Valentine Solar, LLC, Shiloh IV Lessee, LLC, Shiloh III Lessee, LLC, Shiloh Wind Project 2, LLC, Pacific Wind Lessee, LLC, Maverick Solar 4, LLC, Maverick Solar, LLC, Desert Harvest II LLC, Desert Harvest, LLC, Catalina Solar Lessee, LLC, BigBeau Solar, LLC.

Description: Notice of Change in Status of Big Beau Solar, LLC, et al.

Filed Date: 3/3/22.

Accession Number: 20220303-5269.

Comment Date: 5 p.m. ET 3/24/22.

Docket Numbers: ER22-1229-000.

Applicants: MATL LLP.

Description: Compliance filing: Resubmittal of Compliance FIling Order 676-J (RM05-5) to be effective 12/31/9998.

Filed Date: 3/9/22.

Accession Number: 20220309-5040.

Comment Date: 5 p.m. ET 3/30/22.

Docket Numbers: ER22-1230-000.

Applicants: Public Service Company of Colorado.

Description: Tariff Amendment: 2022-03-09 PSC WAPA NOC-Malta SS Maint 319-0.0.0 to be effective 3/10/2022.

Filed Date: 3/9/22.

Accession Number: 20220309-5060.

Comment Date: 5 p.m. ET 3/30/22.

Docket Numbers: ER22-1231-000.

Applicants: Alabama Power Company, Georgia Power Company, Mississippi Power Company.

Description: § 205(d) Rate Filing: Alabama Power Company submits tariff filing per 35.13(a)(2)(iii: Dothan Solar (Dothan Solar & Storage) LGIA Filing to be effective 2/23/2022.

Filed Date: 3/9/22.

Accession Number: 20220309-5085.

Comment Date: 5 p.m. ET 3/30/22.

Docket Numbers: ER22-1232-000.

Applicants: Basin Electric Power Cooperative.

Description: § 205(d) Rate Filing: Basin Electric Amendment to Balancing Authority Services Agreement with WAPA-RMR to be effective 5/9/2022.

Filed Date: 3/9/22.

Accession Number: 20220309-5090.

Comment Date: 5 p.m. ET 3/30/22.

Docket Numbers: ER22-1234-000.

Applicants: Northern States Power Company, a Wisconsin corporation, Northern States Power Company, a Minnesota corporation.

Description: § 205(d) Rate Filing: Northern States Power Company, a Wisconsin corporation submits tariff filing per 35.13(a)(2)(iii: 2022 Interchange Agreement Annual Filing to be effective 1/1/2022.

Filed Date: 3/9/22.

Accession Number: 20220309-5124.

Comment Date: 5 p.m. ET 3/30/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 9, 2022.
Debbie-Anne A. Reese,
Deputy Secretary.

[FR Doc. 2022-05423 Filed 3-14-22; 8:45 am]

BILLING CODE 6717-01-P